INTERNATIONAL TRADE COMMISSION

[Investigation No. 332-573]

Global Economic Impact of Missing and Low Pesticide Maximum Residue Levels; Notice of Change in Completion Date, Clarification of Deadline for Filing Written Submissions

AGENCY: United States International Trade Commission.

ACTION: Change in date for transmittal of volume 1 of the Commission's report; clarification of a filing date relating to volume 2 of the report; and waiver of the requirement to file paper copies.

SUMMARY: The Commission has changed the date for transmittal of volume 1 of its report to the U.S Trade Representative (USTR) in this investigation from April 30, 2020 to June 30, 2020 due to COVID-19; is clarifying that the due date for written submission for volume 2 of its report is June 5, 2020; and has waived the requirement to file paper copies of those submissions.

DATES:

June 5, 2020: Deadline for filing all other written submissions for volume 2

June 30, 2020: Transmittal of volume 1 of Commission report to the USTR

October 31, 2020: Transmittal of volume 2 of Commission report to the USTR

(Delivered Monday, November 2, 2020)

ADDRESSES: All written submissions should be addressed to the Secretary, United States International Trade Commission, 500 E Street SW, Washington, DC 20436. The public record for this investigation may be viewed on the Commission's electronic docket (EDIS) at https://edis.usitc.gov/edis3-internal/app.

FOR FURTHER INFORMATION CONTACT: Project Leader Sabina Neumann (volumes 1 and 2) (202-205-3000 or sabina.neumann@usitc.gov) or Deputy Project Leader (volume 1) Steven LeGrand (202-205-3094 or steven.legrand@usitc.gov) or Deputy Project Leader (volume 2) Justin Choe (202-205-3229 or justin.choe@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2002.

SUPPLEMENTARY INFORMATION: The Commission published notice of institution of the above referenced investigation in the Federal Register on September 27, 2019 (84 FR 51178, September 27, 2019). In that notice the Commission stated that it would transmit volume 1 of its report to the USTR by April 30, 2020. However, due to COVID-19 and in accordance with a request on behalf of Ambassador Robert Lighthizer, the U.S. Trade Representative, the Commission will transmit volume 1 of its report to the USTR by June 30, 2020. This notice also corrects an ambiguity in the September 27, 2019 notice by clarifying that written submissions relating to volume 2 of the report should be filed with the Commission by June 5, 2020 (the original notice in one place gave June 3, 2020, as the due date). All other dates pertaining to this investigation remain the same as in the notice published in the Federal Register on September 27, 2019.

Written Submissions: In lieu of or in addition to participating in the hearing, the Commission invites interested parties to submit written statements concerning this investigation. All written submissions should be addressed to the Secretary, and should be received no later than 5:15 p.m., June 5, 2020 for matters to be covered by volume 2 of the Commission's report. All written submissions must conform with the provisions of section 201.8 of the Commission's Rules of Practice and Procedure (19 CFR 201.8). Section 201.8 of the Rules (as further explained in the Commission's Handbook on Filing Procedures) requires that interested parties file documents electronically on or before the filing deadline (see the following paragraph for further information regarding confidential business information or “CBI”). Persons with questions regarding electronic filing should email the Office of the Secretary, Docket Services Division at EDIS3Help@usitc.gov. The Commission has waived the requirement in section 201.8(d)(1) of its rules (19 CFR 201.8(d)(1)) that persons filing written submissions must also file paper copies of their written submissions by noon of the next day; no paper copies should be filed.

Confidential Business Information (CBI): Any submissions that contain CBI must also conform to the requirements of section 201.6 of the Commission's Rules of Practice and Procedure (19 CFR 201.6). Section 201.6 of the Rules requires that the cover of the document and the individual pages be clearly marked as to whether they are the “confidential” or “non-confidential” version, and that the CBI is clearly identified using brackets. The Commission will make all written submissions, except for those (or portions thereof) containing CBI, available for inspection by interested parties.

In his request letter, the USTR stated that his office intends to make the Commission's report available to the public in its entirety and asked that the Commission not include any CBI in the report that it delivers to the USTR.

The Commission will not include any of the CBI submitted in the course of this investigation in the report it sends to the USTR. However, all information, including CBI, submitted in this investigation may be disclosed to and used (i) by the Commission, its employees and Offices, and contract personnel (a) for developing or maintaining the records of this or a related proceeding, or (b) in internal investigations, audits, reviews, and evaluations relating to the programs, personnel, and operations of the Commission, including under 5 U.S.C. Appendix 3; or (ii) by U.S. government employees and contract personnel for cybersecurity purposes. The Commission will not otherwise disclose any CBI in a manner that would reveal the operations of the firm supplying the information.

Summaries of Written Submissions: The Commission intends to publish any summaries of written submissions filed by interested persons. Persons wishing to have a summary of their submission included in the report should include a summary with their written submission, titled “Public Summary,” and should mark the summary as having been provided for that purpose. The summary may not exceed 500 words, should be in MSWord format or a format that can be easily converted to MSWord, and should not include any CBI. The summary will be published as provided if it meets these requirements and is germane to the subject matter of the investigation. The Commission will identify the name of the organization furnishing the summary and will include a link to the Commission's Electronic Document Information System (EDIS) where the full written submission can be found.

By order of the Commission.
Issued: April 13, 2020.
Lisa Barton,
Secretary to the Commission.

[FR Doc. 2020-08102 Filed 4-16-20; 8:45 am]

BILLING CODE 7020-02-P